DEPARTMENT OF COMMERCE

International Trade Administration

A-570-846

Brake Rotors from the People's Republic of China: Notice of Rescission of Antidumping Duty New Shipper Review

AGENCY: Import Administration, International Trade Administration, Department of Commerce.

SUMMARY: The U.S. Department of Commerce (the Department) is rescinding the new shipper review of the antidumping duty order on brake rotors from the People's Republic of China (PRC) with respect to Longkou Zhongkai Automobile Parts Co., Ltd. (Longkou Zhongkai), an exporter of the subject merchandise from the PRC. The period of review (POR) covers April 1, 2007, through March 31, 2008. This order was revoked as a result of a sunset proceeding and the effective date of revocation is prior to the date of the U.S. entry made by Longkou Zhongkai, the subject of this new shipper review.

EFFECTIVE DATE: July 25, 2008.

FOR FURTHER INFORMATION CONTACT: Brian Smith or Terre Keaton Stefanova, AD/CVD Operations, Office 2, Import Administration, International Trade Administration, U.S. Department of Commerce, 14th Street and Constitution Avenue, N.W., Washington, D.C. 20230; telephone (202) 482-1766 and (202) 482-1280, respectively.

SUPPLEMENTARY INFORMATION:

Background

On May 22, 2008, the Department initiated a new shipper review for Longkou Zhonghai and indicated that the POR for this new shipper review was April 1, 2007, through March 31, 2008. See Brake Rotors From the People's Republic of China: Initiation of Antidumping Duty New Shipper Review, 73 FR 31065 (May 30, 2008).

On May 29, 2008, the International Trade Commission (ITC) determined, pursuant to section 751(c) of the Tariff Act of 1930, as amended (the Act), that revocation of the antidumping duty order on brake rotors from the PRC would not be likely to lead to continuation or recurrence of material injury to an industry in the United States within a reasonably foreseeable time. The ITC notified the Department of its decision on June 12, 2008, and published its decision on June 18, 2008.¹ Based on the ITC's decision, the Department subsequently revoked the antidumping duty order on brake rotors from the PRC, effective August 14, 2007.²

¹ See Brake Rotors from China: Investigation No. 731-TA-744 (Second Review), 73 FR 34790 (June 18, 2008) and ITC Publication 4009 Inv. No. 731-TA-744 (Second Review) June 2008.

² See Brake Rotors from the People's Republic of China: Revocation of Antidumping Duty Order Pursuant to Second Five-Year (Sunset) Review, 73 FR 36039 (June 25, 2008) (Revocation Notice).

On July 14, 2008, Longkou Zhongkai withdrew its new shipper review request.

Rescission of Review

Longkou Zhongkai's POR U.S. entry occurred after the effective date of revocation of the order, which is August 14, 2007. The Department has already issued its revocation instructions to U.S. Customs and Border Protection (CBP), which will liquidate this entry without regard to antidumping duties (i.e., release all bonds and refund all cash deposits, with interest). See Revocation Notice. Because Longkou Zhongkai has no additional U.S. entries to review during the POR, we are rescinding this new shipper review. Furthermore, Longkou Zhongkai has withdrawn its review request in a timely manner. In addition, because this order is now revoked, no cash deposit instructions are necessary.

Notification Regarding Administrative Protective Orders

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with section 777(i) of the Act and 19 CFR 351.214(f)(3).

Dated: July 21, 2008.
Stephen J. Claeys,
Deputy Assistant Secretary for Import Administration.

[FR Doc. E8-17099 Filed 7-24-08; 8:45 am]

BILLING CODE 3510-DS-S